SMALL BUSINESS ADMINISTRATION

[Declaration of Disaster #3571]

State of Tennessee

Davidson County and the contiguous counties of Cheatham, Robertson, Rutherford, Sumner, Williamson and Wilson in the State of Tennessee constitute a disaster area due to damages caused by a five alarm fire to the Old Hickory Village Shopping Center on March 28, 2004. Applications for loans for physical damage may be filed until the close of business on June 14, 2004, and for economic injury until the close of business on January 18, 2005, at the address listed below or other locally announced locations: U.S. Small Business Administration, Disaster Area 2 Office, One Baltimore Place, Suite 300, Atlanta, GA 30308.

The interest rates are:

For Physical Damage:

Homeowners with credit available elsewhere: 6.125%.

Homeowners without credit available elsewhere: 3.125%.

Businesses with credit available elsewhere: 5.800%.

Businesses and non-profit organizations without credit available elsewhere: 2.900%.

Others (including non-profit organizations) with credit available elsewhere: 4.875%.

For Economic Injury:

Businesses and small agricultural cooperatives without credit available elsewhere: 2.900%.

The number assigned to this disaster for physical damage is 357105 and for economic damage is 9Z9900.

(Catalog of Federal Domestic Assistance Program Nos. 59002 and 59008.)

Dated: April 15, 2004.
Hector V. Barreto,
Administrator.

[FR Doc. E4-920 Filed 4-23-04; 8:45 am]

BILLING CODE 8025-01-P